DEPARTMENT OF THE INTERIOR

Fish and Wildlife Service

Back Bay National Wildlife Refuge

AGENCY: Fish and Wildlife Service, Interior.

ACTION: Notice of intent to prepare a comprehensive conservation plan and environmental assessment for Back Bay National Wildlife Refuge; request for comments.

SUMMARY: This notice advises the public that the Fish and Wildlife Service (Service) intends to prepare a Comprehensive Conservation Plan (CCP) and Environmental Assessment (EA), pursuant to the National Environmental Policy Act of 1969 (NEPA) and its implementing regulations, for Back Bay National Wildlife Refuge (NWR), located within the City of Virginia Beach, Virginia. This notice also advises the public that the Service is withdrawing a previous notice, published on May 8, 2002, stating that an Environmental Impact Statement (EIS) would be developed for the refuge. Comments already received under the previous notice will be considered during preparation of the subject CCP/EA.

The Service is furnishing this notice in compliance with the National Wildlife Refuge System Administration Act of 1966, as amended (16 U.S.C. 668dd et seq.): (1) To advise other agencies and the public of our intentions, and (2) to obtain suggestions and information on the scope of issues to include in the environmental documents.

DATES: Please provide any comments on the subject CCP/EA by March 26, 2007. The Service will notify the public of subsequent meetings on development of the proposed CCP/EA via Federal Register notice and other means, including special mailings, newspaper articles, and Web site announcements. Inquire at the address below for future dates of planning activity.

ADDRESSES: Address comments, questions, and requests for more information to the following: Refuge Manager, Back Bay National Wildlife Refuge, 4005 Sandpiper Road, Virginia Beach, VA 23456-4325, 757-721-2412.

FOR FURTHER INFORMATION CONTACT: Thomas Bonetti, Refuge Planner, U.S. Fish and Wildlife Service, 300 Westgate Center Drive, Hadley, Massachusetts 01035, telephone 413-253-8307, fax 413-253-8468, electronic mail tom_bonetti@fws.gov.

SUPPLEMENTARY INFORMATION: By Federal law, all lands within the National Wildlife Refuge System are to be managed in accordance with an approved CCP. The CCP guides management decisions and identifies refuge goals, long-range objectives, and strategies for achieving refuge purposes. Public input into this planning process is essential. The CCP will provide other agencies and the public with a clear understanding of the desired conditions for the refuges and how the Service will implement management strategies. Public input into this planning process is essential.

The Service began soliciting information from the public in early 2002 via open houses, meetings, and written comments. Special mailings, newspaper articles, and Web site announcements helped to inform the public in the area near the refuge of the time and place of opportunities for input to the CCP.

The Service has determined that, at this time, an EA is a more appropriate document than an EIS to accompany the CCP. The need to prepare an EIS is a matter of professional judgment requiring consideration of all issues in question. If the EA determines that the CCP will constitute a major Federal action significantly affecting the quality of the human environment, an EIS will then be prepared. The primary purpose of an EIS is to ensure that a full and fair discussion of all significant environmental impacts occurs, and to inform decision makers and the public of the reasonable alternatives that would avoid or minimize adverse impacts or enhance the quality of the human environment.

Review of this project will be conducted in accordance with the requirements of the NEPA, as amended (42 U.S.C. 4321 et seq.), NEPA Regulations (40 CFR parts 1500-1508), other appropriate Federal laws and regulations, and Service policies and procedures for compliance with those regulations. Concurrent with the CCP process, the Service will conduct a wilderness review and incorporate a summary of the review into the CCP, as well as include compatibility determinations for all applicable refuge uses. We estimate that the Draft CCP/EA will be available in 2007.

Dated: August 28, 2006.
Marvin E. Moriarty,
Regional Director, Region 5, U.S. Fish and Wildlife Service, Hadley, Massachusetts.

Editorial Note: This document was received by the Office of the Federal Register on February 20, 2007.

[FR Doc. E7-3110 Filed 2-22-07; 8:45 am]

BILLING CODE 4310-55-P